DEPARTMENT OF THE INTERIOR

National Park Service

Proposed Revision of Park Boundary, Boston National Historical Park

AGENCY: National Park Service.

ACTION: Announcement of park boundary revision.

SUMMARY: Notice is hereby given to include within the boundary of Boston National Historical Park a parcel of land to provide for management and interpretation of the Bunker Hill Site, located in Charlestown.

SUPPLEMENTARY INFORMATION: The Land and Water Conservation Fund Act of 1965, 78 Stat. 897, as amended, 16 U.S.C. 460l-9(c), et seq. authorizes the Secretary of the Interior to make minor boundary changes when necessary for the proper interpretation or management of an area of the National Park System and, additionally, provides that the Secretary may make minor revisions to the boundaries of areas within the National Park System. Therefore, pursuant to The Land and Water Conservation Fund Act of 1965, as amended, notice is given that the boundary of Boston National Historical Park will be revised to include the 0.10 of an acre parcel of land depicted on map number 457/80,004 prepared by the National Park Service. Said map is on file and available for inspection in the office of the National Park Service, Northeast Region, New England Land Resources Program Center, Old City Hall, 222 Merrimack Street, Suite 400E, Lowell, MA 01852.

Dated: October 7, 2004.
William Shaddox,
Regional Director, Northeast Region.

[FR Doc. 04-24979 Filed 11-9-04; 8:45 am]

BILLING CODE 4312-52-M